DEPARTMENT OF DEFENSE

Department of the Army

Record of Decision (ROD) for the Real Property Master Plan and Real Property Exchange at Camp Parks, Dublin, CA

AGENCY: Department of the Army, DoD.

ACTION: Notice of availability.

SUMMARY: The U.S. Army, with cooperation from the National Aeronautics and Space Administration (NASA), announces the availability of the ROD for the Real Property Master Plan (RPMP) and the Real Property Exchange at Camp Parks. The ROD selects the Accelerated Modernization Alternative, under which the construction of new facilities and ranges included in the RPMP would be partially funded using the value of the land exchange (180 acres of the southern cantonment area) from Federal to private ownership. The remainder of RPMP construction at Camp Parks would be programmed as military construction projects. NASA's in-holding would be sold and proceeds of the sale would be used at its NASA-Ames Research Center, Moffett Field. This decision will speed the replacement of antiquated facilities and infrastructure on Camp Parks.

ADDRESSES: Questions regarding this action can be directed to: U.S. Army Garrison Camp Parks, Environmental Office, Building 791 5th Street, Dublin, CA 94568-5201.

FOR FURTHER INFORMATION CONTACT: Army property: Mr. Paul Kot, (925) 875-4682, or e-mail at Paul.Kot@usar.army.mil.

NASA property: Dr. Ann Clarke, (650) 604-2350, or e-mail Ann.Clarke@nasa.gov.

SUPPLEMENTARY INFORMATION: Potential environmental and socioeconomic impacts from this decision include loss of non-native grasslands and modification of wetlands; loss of special-status species; traffic congestion at the Dublin Boulevard/Dougherty Road intersection; and air quality, socioeconomic, and visual impacts. Proposed mitigation measures would reduce the severity and extent of potential impacts.

A copy of the Final Environmental Impact Statement and ROD can be viewed at http://www.licicett.army.mil.

Dated: November 18, 2009.
Addison D. Davis, IV,
Deputy Assistant Secretary of the Army (Environment, Safety and Occupational Health).

[FR Doc. E9-28371 Filed 11-27-09; 8:45 am]

BILLING CODE 3710-08-M